DEPARTMENT OF EDUCATION

[Docket No.: ED-2022-SCC-0138]

Agency Information Collection Activities; Submission to the Office of Management and Budget for Review and Approval; Comment Request; Early Childhood Longitudinal Study, Kindergarten Class of 2023-24 (ECLS-K:2024) Kindergarten and First-Grade National Data Collection and Transfer School Recruitment

AGENCY: National Center for Education Statistics, Department of Education (ED).

ACTION: Notice.

SUMMARY: In accordance with the Paperwork Reduction Act (PRA) of 1995, the Department is proposing a revision of a currently approved information collection request (ICR).

DATES: Interested persons are invited to submit comments on or before February 27, 2023.

ADDRESSES: Written comments and recommendations for proposed information collection requests should be submitted within 30 days of publication of this notice. Click on this link www.reginfo.gov/public/do/PRAMain to access the site. Find this information collection request (ICR) by selecting “Department of Education” under “Currently Under Review,” then check the “Only Show ICR for Public Comment” checkbox. Reginfo.gov provides two links to view documents related to this information collection request. Information collection forms and instructions may be found by clicking on the “View Information Collection (IC) List” link. Supporting statements and other supporting documentation may be found by clicking on the “View Supporting Statement and Other Documents” link.

FOR FURTHER INFORMATION CONTACT: For specific questions related to collection activities, please contact Carrie Clarady, 202-245-6347.

SUPPLEMENTARY INFORMATION: The Department is especially interested in public comment addressing the following issues: (1) is this collection necessary to the proper functions of the Department; (2) will this information be processed and used in a timely manner; (3) is the estimate of burden accurate; (4) how might the Department enhance the quality, utility, and clarity of the information to be collected; and (5) how might the Department minimize the burden of this collection on the respondents, including through the use of information technology. Please note that written comments received in response to this notice will be considered public records.

Title of Collection: Early Childhood Longitudinal Study, Kindergarten Class of 2023-24 (ECLS-K:2024) Kindergarten and First-Grade National Data Collection and Transfer School Recruitment.

OMB Control Number: 1850-0750.

Type of Review: A revision of a currently approved ICR.

Respondents/Affected Public: Individuals and Households.

Total Estimated Number of Annual Responses: 159,964.

Total Estimated Number of Annual Burden Hours: 110,186.

Abstract: The Early Childhood Longitudinal Study (ECLS) program, conducted by the National Center for Education Statistics (NCES) within the Institute of Education Sciences (IES) of the U.S. Department of Education (ED), draws together information from multiple sources to provide rich, descriptive data on child development, early learning, and school progress. The ECLS program studies deliver national data on children's status at birth and at various points thereafter; children's transitions to nonparental care, early care and education programs, and school; and children's experiences and growth through the elementary grades. The Early Childhood Longitudinal Study, Kindergarten Class of 2023-24 (ECLS-K:2024) is the fourth cohort in the series of early childhood longitudinal studies. The study will advance research in child development and early learning by providing a detailed and comprehensive source of current information on children's early learning and development, transitions into kindergarten and beyond, and progress through school. The ECLS-K:2024 will provide data about the population of children who will be kindergartners in the 2023-24 school year, focusing on children's early school experiences continuing through the fifth grade, and will include collection of data from parents, teachers, and school administrators, as well as direct child assessments.

The ECLS-K:2024 K-1 field test (OMB #1850-0750 v.19-25) is currently ongoing. This current request is to conduct the ECLS-K:2024 national kindergarten and first-grade data collection activities, as well as transfer district and school recruitment. There are two phases of the kindergarten data collection. The first, the fall kindergarten round, will occur from September through November 2023, followed by an additional round, the spring kindergarten round, conducted from March through June 2024. Data collection covered under the current clearance request will then occur again in the spring of 2025, when most of the sampled students are in first grade. Prior to each of these data collection rounds are advance school contact periods, during which schools will be contacted to complete tasks in preparation for the upcoming in-person school visit.

The current submission includes survey instruments, respondent materials, and specifications for the MyECLS website for the two kindergarten rounds and the first-grade round, as well as the recruitment of transfer districts and schools. Some of these materials were previously submitted in the request to conduct the K-1 field test (OMB #1850-0750 v.24 and v.25) and have been updated to reflect additional NCES decisions and the tasks and procedures that will be followed for national data collections. However, many of the survey instruments, respondent materials, and MyECLS website specifications will undergo further revision based on the results of the K-1 field test, available in early 2023. In addition, the spring kindergarten materials are expected to be revised further in response to the national fall kindergarten field experiences, and the spring first-grade materials are expected to be revised further in response to experiences in both national kindergarten rounds. Further, the spring surveys submitted at this time have several known errors and issues (e.g., items collecting respondent and household members' genders have not yet been updated), with needed updates forthcoming in future revision requests. All revised materials, as well as the translated materials, will be included in future revision requests including a 30D public comment period. The first of these revision requests (OMB #1850-0750 v.27) is planned for submission in April 2023.

Dated: January 24, 2023.
Stephanie Valentine,
PRA Coordinator, Strategic Collections and Clearance, Governance and Strategy Division, Office of Chief Data Officer, Office of Planning, Evaluation and Policy Development.

[FR Doc. 2023-01698 Filed 1-26-23; 8:45 am]

BILLING CODE 4000-01-P